DEPARTMENT OF AGRICULTURE

Animal and Plant Health Inspection Service

[Docket No. 03-084-1]

Big Cat Symposia; Animal Care

AGENCY: Animal and Plant Health Inspection Service, USDA.

ACTION: Notice of informational meetings.

SUMMARY: This is a notice to animal exhibitors, dealers, transporters, researchers, animal protection groups, industry groups, and other interested persons that we are holding a series of educational symposia to present current information on the care and maintenance of exotic big cats. This notice provides the agenda for the symposia and information on the location and dates of the next two symposia.

DATES: The next symposium will be held in Columbus, OH, on Wednesday, November 19, 2003. The following symposium will be held in Sarasota, FL, on Wednesday, January 7, 2004. Each symposium will be held from 8 a.m. to 5 p.m. Preregistration is requested for both symposia. Parties wishing to attend may preregister by e-mailing ACE@aphis.usda.gov or by calling the Animal Care headquarters office at (301) 734-7833. The preregistration deadline for the Columbus meeting is October 15, 2003; for the Sarasota meeting, the deadline is December 15, 2003.

On-site registration will take place from 7:30 a.m. to 8:30 a.m. on the day of each symposium.

ADDRESSES: The symposia will be held at the following locations:

1. Columbus, OH: Greater Columbus Convention Center, 400 North High Street, Columbus, OH 43215, (800) 626-0241.

2. Sarasota, FL: Holiday Inn Airport and Marina, 7150 North Tamiami Trail, Sarasota, FL 34243, (888) 818-2781.

FOR FURTHER INFORMATION CONTACT: For further information on the agenda of the symposia, contact Dr. Barbara Kohn, Senior Staff Veterinarian, Animal Care, 4700 River Road Unit 84, Riverdale, MD 20737-1234; (301) 734-7833. Dr. Kohn may be contacted by e-mail at ACE@aphis.usda.gov.

SUPPLEMENTARY INFORMATION: The Animal and Plant Health Inspection Service (APHIS) is announcing a series of educational symposia on the care and maintenance of exotic big cats. The symposia will give Animal Care an opportunity to disseminate information on various topics that are key to the successful management and handling of exotic big cats. The symposia will be held in various geographical locations to facilitate attendance by regulated parties that maintain these animals.

The first symposium was held on Wednesday, March 26, 2003, at the Ramada Plaza Hotel, Fort Worth, TX, and the second symposium was at Sam's Town Hotel, Las Vegas, NV, on April 30, 2003. The next two symposia will be held on November 19, 2003, at the Greater Columbus Convention Center, Columbus, OH, and on January 7, 2004, at the Holiday Inn Airport and Marina, Sarasota, FL. We plan to hold similar symposia at some time during 2004 in another location in the Midwest and in the Washington, DC, metropolitan area.

The symposia have been developed to provide current information and ideas on a variety of topics. Each symposium will follow the same agenda, with possible minor modifications. The symposia will start with general sessions, followed by breakout sessions allowing more interaction between speakers and attendees. The agenda for these symposia is:

7:30 a.m.-8:30 a.m.—Registration.

8 a.m.-11:30 a.m.—General Session.

Welcome.

Nutrition.

Veterinary Care and Tranquilization.

Transportation.

New Training Methods.

11:30 a.m.-1 p.m.—Lunch Break (on own).

1 p.m.-2:30 p.m.—Concurrent Breakout Session #1.

Explaining APHIS Regulations.

Nutrition/Zootrition.

Heat Budgets and Shade (avoiding overheating and overcooling).

2:45 p.m.-4:15 p.m.—Concurrent Breakout Session #2.

Training.

Veterinary Care Issues.

Fixed Exhibit Enclosure Design.

4:15 p.m.-5 p.m.—Questions and Answers; Closing.

Notices of these symposia are being sent to current Animal Welfare Act licensees with exotic big cats. This notice is also available on the Internet at http://www.aphis.usda.gov/ac, the Animal Care Web site. Copies of a brochure containing the information in this announcement can also be requested by calling the Animal Care headquarters office at (301) 734-7833 or by e-mailing a request to ACE@aphis.usda.gov.

Please note that these symposia are being held to provide and disseminate information on the care and maintenance of big exotic cats under the Animal Welfare Act. There will be no opportunity at these symposia to submit formal comments on proposed rules or other regulatory initiatives.

Preregistration

Preregistration is requested by calling the Animal Care headquarters office at (301) 734-7833 or by e-mailing Animal Care at ACE@aphis.usda.gov and providing your name, number of attendees, phone number, and e-mail address or other contact address. This information is needed so we may inform registrants in a timely manner if any changes are made to the schedules of the symposia. Please preregister for the Columbus symposium by October 15, 2003, and for the Sarasota symposium by December 15, 2003.

Travel and Lodging Information

All attendees are responsible for their own travel and lodging. No rooms have been reserved for attendees at the symposium hotels or any other hotels.

Done in Washington, DC, this 30th day of September 2003.
Kevin Shea,
Acting Administrator, Animal and Plant Health Inspection Service.

[FR Doc. 03-25256 Filed 10-3-03; 8:45 am]

BILLING CODE 3410-34-P